DEPARTMENT OF HEALTH AND HUMAN SERVICES

Administration for Community Living

Announcement of the Intent To Award Single-Source Grants to the National Association of Area Agencies on Aging and the National Association of States United for Aging and Disabilities

AGENCY: Administration for Community Living, HHS.

ACTION: Notice.

SUMMARY: The Administration for Community Living (ACL) announces the intent to award, subject to the availability of funds, single-source grant awards in the amount of $335,000 to the National Association of Area Agencies on Aging (n4a) and $153,500 to the National Association of State United for Aging and Disabilities (NASUAD). The awards will continue supporting and stimulating the ongoing work by these organizations to further develop and assist states and community-based organizations with building their business capacity for managed long-term services and supports and delivery system reform. CFDA Numbers: 93.048

DATES: The awards will be issued for a project period of September 30, 2015 through September 29, 2016.

FOR FURTHER INFORMATION CONTACT: Marisa Scala-Foley, Office of Integrated Care Innovations, Administration for Community Living, 1 Massachusetts Avenue NW., Washington, DC 20001. Telephone: 202-357-3516; Email: Marisa.Scala-Foley@acl.hhs.gov.

SUPPLEMENTARY INFORMATION: In 2012, n4a and NASUAD were awarded grants from ACL to build the business capacity of state and community-based aging and disability organizations for managed long-term services and supports (MLTSS). This one-year of grant funding, through continuation grant, will continue to support n4a and NASUAD in their efforts to:

• Identify and track emerging trends, best practices, barriers, lessons learned and progress in the aging and disability networks' integration into MLTSS and delivery system reform;

• increase state and community-based aging and disability organizations' capacity, readiness and involvement in the provision of MLTSS through the provision of broad-based and targeted technical assistance, education and training; and

• develop products that complement and enhance the first two areas of focus.

This program is authorized under the Older Americans Act of 1965, as amended in 2006, Public Law 109-365.

Dated: August 28, 2015.
Sharon Lewis,
Principal Deputy Administrator, Administration for Community Living.

[FR Doc. 2015-22631 Filed 9-8-15; 8:45 am]

BILLING CODE 4154-01-P